DEPARTMENT OF TRANSPORTATION

Federal Highway Administration

Notice of Final Federal Agency Actions on Transportation Project in Wisconsin

AGENCY: Federal Highway Administration (FHWA), Department of Transportation (DOT).

ACTION: Notice of limitation on claims for judicial review of actions by FHWA and other Federal agencies.

SUMMARY: This notice announces actions taken by FHWA and other Federal agencies, on behalf of Wisconsin Department of Transportation (WisDOT), that are final. The actions relate to a proposed highway project, Interstate 39/90/94 (I-39/90/94), US 12/18 to WIS 60, WIS 60 to Levee Road, US 16/WIS 12 to I-39, in Dane, Columbia, Sauk, and Juneau counties, Wisconsin. Those actions grant licenses, permits and approvals for the project.

DATES: By this notice, FHWA is advising the public of final agency actions subject to 23 U.S.C. 139(l). A claim seeking judicial review of the Federal agency actions on the listed highway project will be barred unless the claim is filed on or before June 9, 2025. If the Federal law that authorizes judicial review of a claim provides a time period of less than 150 days for filing such a claim, then that shorter time period still applies.

FOR FURTHER INFORMATION CONTACT:

For FHWA: Ms. Lisa Hemesath, Environmental Protection Specialist, FHWA-Wisconsin Division, 525 Junction Road, Suite 8000, Madison, WI 53717; telephone: (608) 829-7503; email: lisa.hemesath@dot.gov.

For WisDOT: Mr. David Schmidt, PE, Project Manager, WisDOT Southwest Region, 2101 Wright Street, Madison, WI 53704; telephone: (608) 246-3867; email: david2.schmidt@dot.wi.gov.

SUPPLEMENTARY INFORMATION: Notice is hereby given that FHWA has taken final agency actions related to the I-39/90/94 Corridor Study in Dane, Columbia, Sauk, and Juneau counties, Wisconsin. The FHWA, in cooperation with WisDOT, prepared a Draft Environmental Impact Statement (EIS) and combined Final EIS/Record of Decision (ROD) to reconstruct approximately 67 miles of I-39/90/94 from US 12/18 to US 12/WIS 16 and includes I-39 from its split with I-90/94 to Levee Road in Dane, Columbia, Sauk, and Juneau counties, Wisconsin. The purpose of the I-39/90/94 Corridor Study is to address existing and future traffic demands, safety issues, aging and outdated infrastructure, and corridor resiliency.

The project includes reconstructing and adding a through lane along I-39/90/94 in each direction along its existing alignment. I-39 from the I-39 I-90/94 Split to Levee Road is 4 lanes, 2 lanes in each direction, and would be reconstructed as a 4-lane freeway. Auxiliary lanes are added between US 12/18 and the I-94/WIS 30 interchanges and between the US 151/High Crossing Boulevard and WIS 19 interchanges. Collector-Distributor lanes are added between the I-94/WIS 30 and US 151/High Crossing Boulevard interchanges.

The project also implements recommendations from WisDOT's Flood Minimization Study completed as part of this study. The analysis recommends raising 3.5 miles of I-90/94 approximately 3 feet and about 2.9 miles of I-39 approximately 3 to 4 feet to prevent overtopping in the vicinity of the I-39 I-90/94 Split Interchange.

The project will reconstruct existing interchanges to modern design standards whenever possible, including the following interchanges by county. Dane County: I94/WIS 30, US 151/High Crossing Boulevard, US 51, and WIS 19 (WisDOT has selected the No Build alternative at the County V interchange in Dane County); Columbia County: County CS, I-39 I-90/94 Split, WIS 33 at I-39, and WIS 33 at I-90/94; Sauk County: US 12, WIS 23, and WIS 13; Juneau County: US 12/WIS16. Up to 2 new interchanges (Milwaukee Street and/or Hoepker Road) may also be constructed within the city of Madison, pending a funding agreement with the city.

The actions taken by the Federal agencies in this project, and laws under which such actions were taken, are described in the combined Final EIS/ROD, approved on December 5, 2024, and in other documents in the FHWA or WisDOT project records. The combined Final EIS/ROD, and other public records are available by contacting FHWA or WisDOT at the addresses provided above. The combined Final EIS/ROD can also be viewed on the project website at: https://wisconsindot.gov/Pages/projects/by-region/sw/399094/environ.aspx.

This notice applies to all Federal Agency decisions as of the issuance date of this notice and all laws under which such actions were taken, including but not limited to:

1. General: National Environmental Policy Act (NEPA) (42 U.S.C. 4321-4351); Federal-Aid Highway Act (FAHA) (23 U.S.C. 109 as amended by the Fast Act section 1404(a) [Pub. L. 114-94] and 23 U.S.C. 128).

2. Air: Clean Air Act (42 U.S.C. 7401-7671(q)) (Transportation Conformity, 40 CFR part 93).

3. Noise: Procedures for Abatement of Highway Traffic Noise and Construction Noise (23 U.S.C. 109(h), 109(i); 42 U.S.C. 4331, 4332; sec. 339(b), Pub. L. 104-59, 109 Stat. 568, 605; 23 CFR part 772).

4. Land: Section 4(f) of the Department of Transportation Act of 1966 (23 U.S.C. 138 and 49 U.S.C. 303; 23 CFR part 774) and section 6(f) of the Land and Water Conservation Act as amended (54 U.S.C. 200305(f)(3), Pub. L. 88-578; 36 CFR part 59).

5. Historic and Cultural Resources: Section 106 of the National Historic Preservation Act of 1966, as amended (54 U.S.C. 306108; 36 CFR part 800); Archeological and Historic Preservation Act of 1974 (54 U.S.C. 312501-312508); Native American Graves Protection and Repatriation Act (25 U.S.C. 3001 et seq.).

6. Wildlife: Endangered Species Act of 1973 (16 U.S.C. 1531-1544 and section 1536); Fish and Wildlife Coordination Act (16 U.S.C. 661-667(e)); Migratory Bird Treaty Act (16 U.S.C. 703-712).

7. Social and Economic: Americans with Disabilities Act (42 U.S.C. 12101); Uniform Relocation Assistance and Real Property Acquisition Act of 1970 (42 U.S.C. 4601 et seq., as amended by the Uniform Relocation Act Amendments of 1987 [Pub. L. 100-17]).

8. Farmland: Farmland Protection Policy Act (7 U.S.C. 4202(a) and 7 U.S.C. Part 658).

9. Wetlands and Water Resources: Clean Water Act (section 404, section 408, section 401, section 319) (33 U.S.C. 1251 et seq.); Safe Drinking Water Act (42 U.S.C. 300f et seq.).

10. Floodplains: National Highway Performance Program (23 U.S.C. 119).

11. Hazardous Materials: Comprehensive Environmental Response, Compensation, and Liability Act of 1980 (CERCLA) as amended (42 U.S.C. 9601 et seq.); Superfund Amendments and Reauthorization Act of 1986 (Pub. L. 99-499); Resource Conservation and Recovery Act (42 U.S.C. 6901 et seq.).

12. Executive Orders: E.O. 11990, Protection of Wetlands; E.O. 11988, Floodplain Management, as amended by E.O. 12148 and E.O. 13690; E.O. 12898, Federal Actions To Address Environmental Justice in Minority Populations and Low Income Populations; E.O. 14096, Revitalizing Our Nation's Commitment to Environmental Justice for All; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Dated: January 6, 2025.
Glenn Fulkerson,
Division Administrator, Wisconsin Division, Federal Highway Administration.

[FR Doc. 2025-00345 Filed 1-8-25; 8:45 am]

BILLING CODE 4910-RY-P